DEPARTMENT OF TRANSPORTATION

Federal Aviation Administration

Noise Exposure Map Notice, Key West International Airport, Key West, FL

AGENCY: Federal Aviation Administration, DOT.

ACTION: Notice.

SUMMARY: The Federal Aviation Administration (FAA) announces its determination that the Noise Exposure Maps submitted by Monroe County for Key West International Airport under the provisions of 49 U.S.C. 47501 et seq. (Aviation Safety and Noise Abatement Act) and 14 CFR part 150 are in compliance with applicable requirements.

DATES: Effective Date: The effective date of the FAA's determination on the noise exposure maps is August 27, 2008.

FOR FURTHER INFORMATION CONTACT: Ms. Lindy McDowell, Federal Aviation Administration, Orlando Airports District Office, 5950 Hazeltine National Drive, Suite 400, Orlando, Florida 32822, 407-812-6331 extension 130.

SUPPLEMENTARY INFORMATION: This notice announces that the FAA finds that the Noise Exposure Maps submitted for Key West International Airport are in compliance with applicable requirements of Federal Aviation Regulation (FAR) Part 150, effective August 27, 2008. Under 49 U.S.C. section 47503 of the Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of FAR Part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by Monroe County. The documentation that constitutes the “Noise Exposure Maps” as defined in Section 150.7 of FAR Part 150 includes: Table 4.2-1, 2008 Air Carrier & Air Taxi Operations; 4.2-2, Air Carrier & Air Taxi Flight Track Utilization; Table 4.2-3, 2008 Average Daily Engine Run-up Operations; Table 4.2-4, 2008 General Aviation Operations; Table 4.2-5, General Aviation Flight Track Utilization; Table 4.2-6, 2008 Military Aircraft Operations; Table 4.2-7, Military Flight Track Utilization; Table 4.2-8, Summary of 2008 Flight Operations; Table 4.3-1, 2008 Existing Condition Noise Exposure Estimates; Figure 4.1, East Flow Radar Tracks; Figure 4.2, West Flow Radar Tracks; Figure 4.3, East Flow Flight Tracks; Figure 4.4, West Flow Flight Tracks; Figure 4.5, Touch and Go and Helicopter Flight Tracks; Figure 4.6, Run-up Locations; Figure 4.7, 2008 Existing Condition Noise Exposure Map; Table 5.2-1, 2013 Air Carrier & Air Taxi Operations; Table 5.2-2, 2013 Average Daily Engine Run-up Operations; Table 5.2-3, 2013 General Aviation Operations; Table 5.2-4, 2013 Military Aircraft Operations; Table 5.2-5, Summary of 2013 Flight Operations; Table 5.3-1, 2013 Future Condition Noise Exposure Estimates; Figure 5.1, 2013 Future Condition Noise Exposure Map; and, Figure 5.2, Future Condition Noise Exposure Map with Flight Tracks. The FAA has determined that these Noise Exposure Maps and accompanying documentation are in compliance with applicable requirements. This determination is effective on August 27, 2008.

FAA's determination on the airport operator's Noise Exposure Maps is limited to a finding that the maps were developed in accordance with the procedures contained in Appendix A of FAR Part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under FAR Part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of FAR Part 150, that the statutorily required consultation has been accomplished.

Copies of the full Noise Exposure Maps documentation and of the FAA's evaluation of the maps are available for examination at the following locations: Federal Aviation Administration, Orlando Airports District Office, 5950 Hazeltine National Drive, Suite 400, Orlando, Florida 32822.

Questions may be directed to the individual named above under the heading, FOR FURTHER INFORMATION CONTACT.

Issued in Orlando, Florida on August 27, 2008.
William E. Farris,
Acting Manager, Orlando Airports District Office.

[FR Doc. E8-21185 Filed 9-12-08; 8:45 am]

BILLING CODE 4910-13-M